INTERNATIONAL TRADE COMMISSION

[Investigations Nos. 731-TA-1014 and 1017 (Final)]

Polyvinyl Alcohol From China and Korea

AGENCY: International Trade Commission.

ACTION: Revised schedule for the subject investigations.

DATES: August 13, 2003.

FOR FURTHER INFORMATION CONTACT: Debra Baker (202-205-3180), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: On March 20, 2003, the Department of Commerce (Commerce) made its preliminary determinations for China (68 FR 13674) and Korea (68 FR 13681). On April 14, 2003, the Commission accordingly established a schedule for the conduct of the final phase of the subject investigations (68 FR 17964). On August 11, 2003, Commerce made its final determinations for China (68 FR 47538) and Korea (68 FR 47540). The Commission, therefore, is revising its schedule to conform with the statutory deadlines established by the date of publication in the Federal Register of Commerce's final determinations.

The Commission's new schedule for the investigations is as follows: A supplemental staff report will be placed in the nonpublic record on August 27, 2003, and party comments on the supplemental staff report and on Commerce's final determinations are due on September 4, 2003. Party comments may not exceed 20 pages of textual material, double-spaced and single-sided, on stationery measuring 8½ x 11 inches, and shall otherwise satisfy the requirements of section 207.30(b) of the Commission's rules.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: August 13, 2003.
By order of the Commission.
Marilyn R. Abbott,
Secretary.

[FR Doc. 03-21202 Filed 8-18-03; 8:45 am]

BILLING CODE 7020-02-P